DEPARTMENT OF THE INTERIOR

Bureau of Land Management

[UT-020-02-2640-HO-UTZA]

Notice of Temporary Closure of the Manning Canyon Area

AGENCY: Bureau of Land Management, Department of the Interior.

ACTION: Extension of Notice of Temporary Closure, Manning Canyon Area.

SUMMARY: Notice is hereby given that the Notice of Temporary Closure for the Manning Canyon area, first published in the Federal Register on October 29, 2002 page 66000, volume 67, number 209, is hereby extended until rehabilitation, and range, habitat, and watershed restoration are successful. The area described is hereby closed to all motorized vehicle and mechanized vehicle use to protect the rehabilitation efforts of the Manning Canyon hazardous mine tailings remediation project. The opening date for the West Manning Canyon and Lewiston roads will be determined by mutual agreement with Utah County. The public lands affected by this closure are all public lands within the following described area which is approximately 2,971 acres in size:

Manning Canyon Hazardous Material Cleanup Site

T. 6 S., R. 3 W., Salt Lake Meridian,

Section 13, W½,

Section 14, all,

Section 15, all,

Section 22, E½, all public lands east of and including the north-south road,

Section 23, all,

Section 24, S½NE¼, W½,

Section 26, all public lands east of the West Manning Canyon Road,

Section 27, NE¼NE¼NE¼, north of the West Manning Canyon Road.

FOR FURTHER INFORMATION CONTACT: Tim Ingwell, BLM Hazardous Material Specialist, Salt Lake Field Office, Bureau of Land Management, 2370 South 2300 West, Salt Lake City, Utah, 84119; (801) 977-4300, or e-mail him at tim_ingwell@ut.blm.gov.

SUPPLEMENTARY INFORMATION: This closure of the public lands to motorized vehicle and mechanized use will serve to protect the rehabilitation of the lands following the cleanup of hazardous material in Manning Canyon. The hazardous material consists of numerous mine tailings piles containing large concentrations of heavy metals, such as lead and arsenic. As a result of the cleanup of these hazardous mine tailings, large areas were re-contoured and reseeded and a repository was created to contain the tailings. These areas require protection until the rehabilitation actions are determined to be successful. A map depicting the closure area is available for public inspection at the Bureau of Land Management, Salt Lake Field Office.

The authority for establishing this restriction is found at 43 CFR 8364.1(a) and 43 CFR 8341.2. This restriction does not apply to:

(1) Any federal, state or local government officer or member of an organized rescue or fire fighting force while in the performance of an official duty.

(2) Any Bureau of Land Management employee, agent, contractor, or cooperator while in the performance of an official duty.

(3) Any federal, state, local, or contract law enforcement officer, while in the performance of their official duties, or while enforcing this closure notice.

Violation of this closure is punishable by a fine not to exceed $100,000 and/or imprisonment not to exceed 12 months as provided in 43 CFR 8360-0.7 as further defined in 18 U.S.C. 3571.

Dated: July 23, 2006.
Glenn A. Carpenter,
Field Office Manager.

[FR Doc. 06-7371 Filed 8-31-06; 8:45 am]

BILLING CODE 4310-$$-P